DEPARTMENT OF AGRICULTURE

Forest Service

Newspapers Used for Publication of Legal Notice of Appealable Decisions for the Intermountain Region; Utah, Idaho, Nevada, and Wyoming

AGENCY: Forest Service, USDA.

ACTION: Notice.

SUMMARY: This notice lists the newspapers that will be used by all ranger districts, forests, and the Regional Office of the Intermountain Region to publish legal notice of all decisions subject to appeal under 36 CFR 215 and 36 CFR 217. The intended effect of this action is to inform interested members of the public which newspapers will be used to publish legal notices of decisions, thereby allowing them to receive constructive notice of a decision, to provide clear evidence of timely notice, and to achieve consistency in administering the appeals process.

DATES: Publication of legal notices in the listed newspapers will begin with decisions subject to appeal that are made on or after December 1, 2000. The list of newspapers will remain in effect until June 1, 2001, when another notice will be published in the Federal Register.

FOR FURTHER INFORMATION CONTACT: Barbara Schuster, Regional Appeals Manager, Intermountain Region, 324 25th Street, Ogden, UT 84401, and Phone (801) 625-5301.

SUPPLEMENTARY INFORMATION: The administrative appeal procedures 36 CFR 215 and 36 CFR 217, of the Forest Service require publication of legal notice in a newspaper of general circulation of all decisions subject to appeal. This newspaper publication of notices of decisions is in addition to direct notice to those who have requested notice in writing and to those known to be interested and affected by a specific decision.

The legal notice is to identify: the decision by title and subject matter; the date of the decision; the name and title of the official making the decision; and how to obtain copies of the decision. In addition, the notice is to state the date the appeal period begins which is the day following publication of the notice.

The timeframe for appeal shall be based on the date of publication of the notice in the first (principal) newspaper listed for each unit.

The newspapers to be used are as follows:

Regional Forester, Intermountain Region

For decisions made by the Regional Forester affecting National Forest in Idaho:

The Idaho Statesman, Boise, Idaho

For decisions made by the Regional Forester affecting National Forests in Nevada:

The Reno Gazette-Journal, Reno, Nevada

For decisions made by the Regional Forester affecting National Forests in Wyoming:

Casper Star-Tribune, Casper, Wyoming

For decisions made by the Regional Forester affecting National Forests in Utah:

Salt Lake Tribute, Salt Lake City, Utah

If the decision made by the Regional Forester affects all National Forests in the Intermountain Region, it will appear in:

Salt Lake Tribune, Salt Lake City, Utah

Ashley National Forest

Ashley Forest Supervisors decisions:

Vernal Express, Vernal, Utah

Vernal District Ranger decisions:

Vernal Express, Vernal, Utah

Flaming Gorge District Ranger for decisions affecting Wyoming:

Casper Star Tribune, Casper, Wyoming

Flaming Gorge District Ranger for decisions affecting Utah:

Vernal Express, Vernal, Utah

Roosevelt and Duchesne District Ranger decisions:

Uintah Basin Standard, Roosevelt, Utah

Boise National Forest

Boise Forest Supervisor decisions:

The Idaho Statesman, Boise, Idaho

Mountain Home District Ranger decisions:

The Idaho Statesman, Boise, Idaho

Idaho City District Ranger decisions:

The Idaho Statesman, Boise, Idaho

Cascade District Ranger decision:

The Long Valley Advocate, Cascade, Idaho

Lowman District Ranger decisions:

The Idaho World, Garden Valley, Idaho

Emmett District Ranger decisions:

The Messenger-Index, Emmett, Idaho

Bridger-Teton National Forest

Bridger-Teton Forest Supervisor decision:

Casper Star-Tribune, Casper, Wyoming

Jackson District Ranger decision:

Casper Star-Tribune, Casper, Wyoming

Buffalo District Ranger decisions:

Casper Star-Tribune, Casper, Wyoming

Big Piney District Ranger decisions:

Casper Star-Tribune, Casper, Wyoming

Pinedale District Ranger decisions:

Casper Star-Tribune, Casper, Wyoming

Greys River District Ranger decisions:

Casper Star-Tribune, Casper, Wyoming

Kemmerer District Ranger decisions:

Casper Star-Tribune, Casper, Wyoming

Caribou-Targhee National Forest

Caribou-Targhee Forest Supervisor decisions for the Caribou portion:

Idaho State Journal, Pocatello, Idaho

Soda Springs District Ranger decisions:

Idaho State Journal, Pocatello, Idaho

Montpeler District Ranger decisions:

Idaho State Journal, Pocatello, Idaho

Westside District Ranger decisions:

Idaho State Journal, Pocatello, Idaho

Caribou-Targhee Forest Supervisor decisions for the Targhee Portion:

The Post Register, Idaho Falls, Idaho

Dubois District Ranger decisions:

The Post Register, Idaho Falls, Idaho

Island Park District Ranger decisions:

The Post Register, Idaho Falls, Idaho

Ashton District Range decisions:

The Post Register, Idaho Falls, Idaho

Palisades District Ranger decisions:

The Post Register, Idaho Falls, Idaho

Teton Basin District Ranger decisions:

The Post Register, Idaho Falls, Idaho

Dixie National Forest

Dixie Forest Supervisor decisions:

The Daily Specturm, St. George, Utah

Pine Valley District Ranger decisions:

The Daily Spectrum, St. George, Utah

Cedar City District Ranger decisions:

The Daily Spectrum, St. George, Utah

Powell District Ranger decisions:

The Daily Spectrum, St. George, Utah

Escalante District Ranger decisions:

The Daily Spectrum, St. George, Utah

Teasdale District Ranger decisions:

The Daily Spectrum, St. George, Utah

Fishlake National Forest

Fishlake Forest Supervisor decisions:

Richfield Reaper, Richfield, Utah

Loa District Ranger decisions:

Richfield Reaper, Richfield, Utah

Richfield District Ranger decisions:

Richfield Reaper, Richfield, Utah

Beaver District Ranger decisions:

Richfield Reaper, Beaver, Utah

Fillmore District Ranger decisions:

Richfield Reaper, Fillmore, Utah

Humboldt—Toiyabe National Forests

Humboldt—Toiyabe Forest Supervisor decisions for the Humboldt portion:

Elko Daily Free Press, Elko, Nevada

Humboldt-Toiyabe Forest Supervisor decisions for the Toiyabe portion:

Reno Gazette-Journal, Reno, Nevada

Sierra Ecosystem Coordination Center (SECO):

Carson District Ranger decisions:

Reno Gazette-Journal, Reno, Nevada

Bridgeport District Ranger, decisions:

The Review-Herald, Mammoth Lakes, California

Spring Mountains National Recreation Area Ecosystem (SMNRAE):

Spring Mountains National Recreation Area District Ranger decisions:

Las Vegas Review Journal, Las Vegas, Nevada

Central Nevada Ecosystem (CNECO):

Austin District Ranger decisions:

Reno Gazette-Journal, Reno, Nevada

Tonopah District Ranger decisions:

Tonopah Times Bonanza-Goldfield News, Tonopah, Nevada

Ely District Ranger decisions:

Ely Daily Times, Ely, Nevada

Northeast Nevada Ecosystem (NNECO):

Mountain City District Ranger decisions:

Elko Daily Free Press, Elko, Nevada

Ruby Mountains District Ranger decisions:

Elko Daily Free Press, Elko, Nevada

Jarbidge District Ranger decisions:

Elko Daily Free Press, Elko, Nevada

Santa Rosa District Ranger decisions:

Humboldt Sun, Winnemucca, Nevada

Manti-Lasal National Forest

Manti-LaSal Forest Supervisor decisions:

Sun Advocate, Price, Utah

Sanpete District Ranger decisions:

The Pyramid, Mt. Pleasant, Utah

Ferron District Ranger decisions:

Emery County Progress, Castle Dale, Utah

Price District Ranger decisions:

Sun Advocate, Price, Utah

Moab District Ranger decisions:

The Times Independent, Moab, Utah

Monticello District Ranger decisions:

The San Juan Record, Monticello, Utah

Payette National Forest

Payette Forest Supervisor decisions:

Idaho Statesman, Boise, Idaho

Weiser District Ranger decisions:

Signal American, Weiser, Idaho

Council District Ranger decisions:

Council Record, Council, Idaho.

New Meadows, McCall, and Krassel District Ranger decisions:

Star News, McCall, Idaho

Salmon-Challis National Forests

Salmon-Challis Forest Supervisor decisions for the Salmon portion:

The Recorder-Herald, Salmon, Idaho

Salmon-Challis Forest Supervisor decisions for the Challis portion:

The Challis Messenger, Challis, Idaho

North Fork District Ranger decisions:

The Recorder-Herald, Salmon, Idaho

Leadore District Ranger decisions:

The Recorder-Herald, Salmon, Idaho

Salmon/Colbalt District Ranger decisions:

The Recorder-Herald, Salmon, Idaho

Middle Fork District Ranger decisions:

The Challis Messenger, Challis, Idaho

Challis District Ranger decisions:

The Challis Messenger, Challis, Idaho

Yankee Fork District Ranger decisions:

The Challis Messenger, Challis, Idaho

Lost River District Ranger decisions:

The Challis Messenger, Challis, Idaho

Sawtooth National Forest

Sawtooth Forest Supervisor decisions:

The Times News, Twin Falls, Idaho

Burley District Ranger decisions:

Ogden Standard Examiner, Ogden, Utah, for those decisions on the Burley District involving the Raft River Unit.

South Idaho Press, Burley, Idaho, for decisions issued on the Idaho portion of the Burley District.

Twin Falls District Ranger decisions:

The Times News, Twin Falls, Idaho

Ketchum District Ranger decisions:

Idaho Mountain Express, Ketchum, Idaho

Sawtooth National Recreation Area:

Challis Messenger, Challis, Idaho

Fairfield District Ranger decisions:

The Times News, Twin Falls, Idaho

Uinta National Forest

Uinta Forest Supervisor decisions:

The Daily Herald, Provo, Utah

Pleasant Grove District Ranger decisions:

The Daily Herald, Provo, Utah

Heber District Ranger decisions:

The Daily Herald, Provo, Utah, and

Spanish Fork District Ranger decisions:

The Daily Herald, Provo, Utah

Wasatch-Cache National Forest

Wasatch-Cache Forest Supervisor decisions:

Salt Lake Tribune, Salt Lake City, Utah

Salt Lake District Ranger decisions:

Salt Lake Tribune, Salt Lake City, Utah

Kamas District Ranger decisions:

Salt Lake Tribune, Salt Lake City, Utah

Evanston District Ranger decisions:

Uintah County Herald, Evanston, Wyoming

Mountain View District Ranger decisions:

Uintah County Herald, Evanston, Wyoming

Ogden District Ranger decisions:

Ogden Standard Examiner, Ogden, Utah

Logan District Ranger decisions:

Logan Herald Journal, Logan, Utah

Dated: November 30, 2000.
Jack A. Blackwell,
Regional Forester.

[FR Doc. 00-30999 Filed 12-5-00; 8:45 am]

BILLING CODE 3410-11-M